DEPARTMENT OF TRANSPORTATION

Federal Aviation Administration

14 CFR Part 39

[Docket No. FAA-2025-0617; Project Identifier MCAI-2024-00331-R]

RIN 2120-AA64

Airworthiness Directives; Airbus Helicopters

AGENCY: Federal Aviation Administration (FAA), DOT.

ACTION: Notice of proposed rulemaking (NPRM).

SUMMARY: The FAA proposes to adopt a new airworthiness directive (AD) for all Airbus Helicopters Model AS-365N2, AS 365 N3, EC 155B, EC155B1, SA-365N, and SA-365N1 helicopters. This proposed AD was prompted by reports of loss of tightening torque between the upper ball bearing end and the main rotor (MR) servo-control. This proposed AD would require inspecting the tightening torque and, depending on the results, taking corrective action. This proposed AD would also require reporting information. These actions are specified in a European Union Aviation Safety Agency (EASA) AD, which is proposed for incorporation by reference. The FAA is proposing this AD to address the unsafe condition on these products.

DATES: The FAA must receive comments on this NPRM by May 30, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0617; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; phone: +49 221 8999 000; email: ADs@easa.europa.eu; website: easa.europa.eu. You may find this material on the EASA website at ad.easa.europa.eu. It is also available at regulations.gov under Docket No. FAA-2025-0617.

• You may view this material at the FAA, Office of the Regional Counsel, Southwest Region, 10101 Hillwood Parkway, Room 6N-321, Fort Worth, TX 76177. For information on the availability of this material at the FAA, call (817) 222-5110.

FOR FURTHER INFORMATION CONTACT: Peter Schmitt, Aviation Safety Engineer, FAA, 1600 Stewart Avenue, Suite 410, Westbury, NY 11590; phone: (206) 231-3377; email: peter.a.schmitt@faa.gov.

SUPPLEMENTARY INFORMATION:

Comments Invited

The FAA invites you to send any written relevant data, views, or arguments about this proposal. Send your comments to an address listed under the ADDRESSES section. Include “Docket No. FAA-2025-0617; Project Identifier MCAI-2024-00331-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Peter Schmitt, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2024-0110, dated June 6, 2024 (EASA AD 2024-0110) (also referred to as the MCAI), to correct an unsafe condition on Airbus Helicopters Model SA 365 N, SA 365 N1, AS 365 N2, AS 365 N3, EC 155 B, and EC 155 B1 helicopters. The MCAI states two occurrences were reported of loss of tightening torque between the upper ball bearing end and the MR servo-control, which in one occurrence, led to the disconnection of these two parts. The MCAI further states that the investigation is still on-going to determine the root cause. EASA considers this MCAI an interim action and further action may follow. This condition, if not addressed, could result in disconnection between the upper ball bearing end and the MR servo-control, and consequent loss control of the helicopter.

The FAA is proposing this AD to address the unsafe condition on these products. You may examine the MCAI in the AD docket at regulations.gov under Docket No. FAA-2025-0617.

Material Incorporated by Reference Under 1 CFR Part 51

EASA AD 2024-0110 requires a one-time check of the torque on each nut connecting the upper ball bearing end to all three MR servo-controls and, depending on the results, taking corrective actions, which include applying torque, lockwire, and sealing compound to the upper ball bearing end of the MR servo-control, inspecting the ball bearing end of the MR-servo control, replacing a ball bearing end, inspecting the upper end fitting of the MR-servo control, and replacing the MR servo-control. EASA AD 2024-0110 also requires reporting the inspection results (including no findings) to AH [Airbus Helicopters].

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type designs.

Proposed AD Requirements in This NPRM

This proposed AD would require accomplishing the actions specified in EASA AD 2024-0110, described previously, as incorporated by reference, except for any differences identified as exceptions in the regulatory text of this proposed AD and except as discussed under “Differences Between this Proposed AD and the MCAI.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2024-0110 by reference in the FAA final rule. This proposed AD would, therefore, require compliance with EASA AD 2024-0110 in its entirety through that incorporation, except for any differences identified as exceptions in the regulatory text of this proposed AD. Using common terms that are the same as the heading of a particular section in EASA AD 2024-0110 does not mean that operators need comply only with that section. For example, where the AD requirement refers to “all required actions and compliance times,” compliance with this AD requirement is not limited to the section titled “Required Action(s) and Compliance Time(s)” in EASA AD 2024-0110. Material required by EASA AD 2024-0110 for compliance will be available at regulations.gov under Docket No. FAA-2025-0617 after the FAA final rule is published.

Differences Between This Proposed AD and the MCAI

The MCAI, as well as the material referenced in the MCAI, refer to the “torque inspection” as a “check.” In an FAA AD, a “check” may be done by the owner/operator (pilot) holding at least a private pilot certificate provided certain criteria are met. The authorization for a “check” in an FAA AD is an exception to the FAA's standard maintenance regulations and the criteria is not met in this proposed AD. Accordingly, this proposed AD would require those actions be accomplished by persons authorized under 14 CFR 43.3.

Interim Action

The FAA considers this proposed AD an interim action. If final action is later identified, the FAA might consider further rulemaking then.

Costs of Compliance

The FAA estimates that this AD, if adopted as proposed, would affect 63 helicopters of U.S. Registry. Labor rates are estimated at $85 per work-hour. Based on these numbers, the FAA estimates the following costs to comply with this proposed AD.

Inspecting the tightening torque of the upper ball bearing end of each MR servo control would take 1 work-hour for an estimated cost of $255 per helicopter (three MR servo-controls per helicopter) and $16,065 for the U.S. fleet.

Reporting the results of the inspection would take 1 work-hour for an estimated cost of $85 per helicopter and $5,355 for the U.S. fleet.

If required, applying torque, lock-wire, and sealing compound to the upper ball bearing end of each MR servo-control would take .5 work-hour and parts would cost a nominal amount for an estimated cost of $127.50 per helicopter (for up to three MR servo-controls per helicopter).

If required, inspecting the threads of a ball bearing end would take 1 work-hour for an estimated cost of $85 per ball bearing end. Depending on the results, replacing a ball bearing end would take 1 work-hour and parts would cost $1,299 for an estimated cost of $1,384 per ball bearing end.

If required, inspecting the threads of an upper end fitting would take 1 work-hour for an estimated cost of $85 per upper-end fitting. Depending on the results, replacing an MR servo-control would take 1 work-hour and parts would cost $41,039 for an estimated cost of $41,124 per MR servo-control.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2025-0617; Project Identifier MCAI-2024-00331-R.

(a) Comments Due Date

The FAA must receive comments on this airworthiness directive (AD) by May 30, 2025.

(b) Affected ADs

None.

(c) Applicability

This AD applies to Airbus Helicopters Model AS-365N2, AS 365 N3, EC 155B, EC155B1, SA-365N, and SA-365N1 helicopters, certificated in any category.

(d) Subject

Joint Aircraft System Component (JASC) Code 6710, Main rotor control.

(e) Unsafe Condition

This AD was prompted by reports of two occurrences of loss of tightening torque between the upper ball bearing end and the main rotor (MR) servo-control. The FAA is issuing this AD to detect loss of tightening torque. The unsafe condition, if not addressed, could result in disconnection between the upper ball bearing end and the MR servo-control, and consequent loss of control of the helicopter.

(f) Compliance

Comply with this AD within the compliance times specified, unless already done.

(g) Required Actions

Except as specified in paragraph (h) of this AD: Comply with all required actions and compliance times specified in, and in accordance with, European Union Aviation Safety Agency AD 2024-0110, dated June 6, 2024 (EASA AD 2024-0110).

(h) Exceptions to EASA AD 2024-0110

(1) Where EASA AD 2024-0110 defines “the ASB,” this AD requires replacing that definition with “Airbus Helicopters Alert Service Bulletin (ASB) AS365-67-30-0001, AS366-67-30-0001, or EC155-67-30-0001, each Issue 2 and dated May 15, 2024, as applicable for the model helicopter. For compliance with this AD, Model SA-365N and SA-365N1 helicopters are to use ASB AS365-67-30-0001, Issue 2, dated May 15, 2024.”

(2) Where EASA AD 2024-0110 requires compliance in terms of flight hours, this AD requires using hours time-in-service.

(3) Where EASA AD 2024-0110 refers to its effective date, this AD requires using the effective date of this AD.

(4) Where paragraph (1) of EASA AD 2024-0110 and the material referenced in EASA AD 2024-0110 specify “check,” this AD requires replacing that text with “inspect” or “inspection” as applicable.

(5) Where the material referenced in EASA AD 2024-0110 specifies discarding parts, this AD requires removing those parts from service.

(6) Where the material referenced in EASA AD 2024-0110 specifies hard point, for this AD a hard point may be indicated by resistance, ratcheting, blocking, or difficulty when turning the ball bearing end into the upper end fitting of the MR servo-control by hand.

(7) Where paragraph (3) of EASA AD 2024-0110 specifies reporting inspection results (including no findings) to AH [Airbus Helicopters] within 7 days after the inspection required by paragraph (1) of EASA AD 2024-0110, this AD requires reporting that information at the applicable time in paragraph (h)(7)(i) or (ii) of this AD.

(i) If the inspection was done on or after the effective date of this AD: Submit the report within 30 days after the inspection required by paragraph (1) of EASA AD 2024-0110.

(ii) If the inspection was done before the effective date of this AD: Submit the report within 30 days after the effective date of this AD.

(8) This AD does not adopt the “Remarks” section of EASA AD 2024-0110.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD. Information may be emailed to: AMOC@faa.gov.

(2) Before using any approved AMOC, notify your appropriate principal inspector, or lacking a principal inspector, the manager of the local flight standards district office/certificate holding district office.

(j) Related Information

For more information about this AD, contact Peter Schmitt, Aviation Safety Engineer, FAA, 1600 Stewart Avenue, Suite 410, Westbury, NY 11590; phone: (206) 231-3377; email: peter.a.schmitt@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0110, dated June 6, 2024.

(ii) [Reserved]

(3) For EASA material identified in this AD, contact EASA, Konrad-Adenauer-Ufer 3, 50668 Cologne, Germany; phone: +49 221 8999 000; email: ADs@easa.europa.eu; website: easa.europa.eu. You may find this EASA AD on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on April 3, 2025.
Steven W. Thompson,
Acting Deputy Director, Compliance & Airworthiness Division, Aircraft Certification Service.

[FR Doc. 2025-06186 Filed 4-14-25; 8:45 am]

BILLING CODE 4910-13-P